DEPARTMENT OF DEFENSE

Department of the Air Force

Privacy Act of 1974; System of Records

AGENCY: Department of the Air Force, DoD.

ACTION: Notice to delete systems of records.

SUMMARY: The Department of the Air Force is deleting two systems of records notices in its existing inventory of record systems subject to the Privacy Act of 1974, (5 U.S.C. 552a), as amended.

DATES: This proposed action would be effective without further notice on May 16, 2002, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 10, 2002.
Patricia L. Toppings,
Alternate OSD Federal Register Liaison Officer, Department of Defense.

F036 ACC A

System name:

Special Awards File (June 11, 1997, 62 FR 31793).

Reason: Records in this system of records are retrieved by award, not a personal identifier. Therefore, the system of records is no longer subject to the Privacy Act of 1974 and is being deleted from the Department of the Air Forces' inventory of systems of records notices subject to the Privacy Act of 1974.

F036 ACC B

System name:

Operations Training Development Evaluation (June 11, 1997, 62 FR 31793).

Reason: Records in this system of records are retrieved by crew position, not a personal identifier. Therefore, the system of records is no longer subject to the Privacy Act of 1974 and is being deleted from the Department of the Air Forces' inventory of systems of records notices subject to the Privacy Act of 1974.

[FR Doc. 02-9181 Filed 4-15-02; 8:45 am]

BILLING CODE 5001-08-P